DEPARTMENT OF THE TREASURY

Agency Information Collection Activities; Submission for OMB Review; Comment Request; Multiple Fiscal Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before July 26, 2019 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Bureau of the Fiscal Service (FS)

1. Title: Request for Payment of Reissue of U.S. Savings Bonds Deposited in Safekeeping.

OMB Control Number: 1530-0024.

Type of Review: Extension without change of a currently approved collection.

Description: The information is necessary to request payment or reissue of Savings Bonds/Notes held in safekeeping when original safekeeping custody receipts are not available. The information on the form is used by the Department of the Treasury, Bureau of the Fiscal Service, to identify the securities involved, establish entitlement, and to obtain a certified request for payment or reissue. Without the information, the transaction cannot be completed.

Form: FS Form 4239.

Affected Public: Individuals and households.

Estimated Number of Respondents: 1,400.

Frequency of Response: On occasion.

Estimated Total Number of Annual Responses: 1,400.

Estimated Time per Response: 10 minutes.

Estimated Total Annual Burden Hours: 233.

2. Title: Regulations Governing U.S. Treasury Securities—State and Local Government Series.

OMB Control Number: 1530-0044.

Type of Review: Extension without change of a currently approved collection.

Description: The regulations govern U.S. Treasury bonds, notes and certificates of indebtedness of the States and Local Government Series. The collection of information is necessary to enable Treasury to establish an investor's account, to issue securities, to ensure that an investor meets the certification requirements, to redeem securities either at or prior to maturity, and to obtain necessary documentation where a waiver is involved.

Form: None.

Affected Public: State, Local and Tribal Governments.

Estimated Number of Respondents: 60.

Frequency of Response: On occasion.

Estimated Total Number of Annual Responses: 60.

Estimated Time per Response: 13 minutes.

Estimated Total Annual Burden Hours: 13 hours.

3. Title: Claim for Relief on Account of the Non-receipt of United States Savings Bonds.

OMB Control Number: 1530-0048.

Type of Review: Extension without change of a currently approved collection.

Description: Application by owner to request a substitute savings bond or payment in lieu of bond not received.

Form: FS Form 3062-4.

Affected Public: Individuals and households.

Estimated Number of Respondents: 1,000.

Frequency of Response: On occasion.

Estimated Total Number of Annual Responses: 1,000.

Estimated Time per Response: 10 minutes.

Estimated Total Annual Burden Hours: 167 hours.

Authority: 44 U.S.C. 3501 et seq.

Dated: June 20, 2019.
Spencer W. Clark,
Treasury PRA Clearance Officer.

[FR Doc. 2019-13517 Filed 6-25-19; 8:45 am]

BILLING CODE 4810-AS-P